ENVIRONMENTAL PROTECTION AGENCY

[OPP-2003-0399; FRL-7349-1]

Support the Tribal Pesticide Program Council (TPPC); Notice of Funds Availability

AGENCY: Evironmental Protection Agency (EPA).

ACTION: Notice.

SUMMARY: EPA's Office of Pesticide Programs is soliciting proposals under section 20 of the Federal Insecticide, Fungicide, and Rodenticide Act (FIFRA) for assistance to support a continuing project that promotes and enhances Tribal pesticide program development, raises human health and environmental issues related to pesticides that are important to Tribes and their people, and addresses policy needs at the national level. The total funding for the cooperative agreement is $1,000,000 for a 5-year period. Approximately $200,000 is expected to be available in fiscal year (FY) 2004. At the conclusion of the first 1 year period of performance, incremental funding of up to $200,000 may be made available for each year allowing the project to continue for a total of five periods of performance (approximately 5 years) depending on need and the Agency budget in outlying years.

DATES: Applications must be received by EPA on or before May 24, 2004.

ADDRESSES: Applications may be submitted by mail, fax, or electronically. Please follow the detailed instructions provided in Unit III.H.1. of the SUPPLEMENTARY INFORMATION.

FOR FURTHER INFORMATION CONTACT: Georgia McDuffie, Field and External Affairs Division (7506C), Office of Pesticide Programs, Environmental Protection Agency, 1200 Pennsylvania Ave., NW., Washington, DC 20460-0001; telephone number: (703) 605-0195 fax number: (703) 308-1850; e-mail address: mcduffie.georgia@epa.gov.

SUPPLEMENTARY INFORMATION:

I. Overview Information

The following listing provides certain key information concerning the proposal opportunity.

• Federal agency name: Environmental Protection Agency (EPA).

• Funding opportunity title: Tribal Pesticide Program Council (TPPC); Request for Proposals.

• Announcement type: The initial announcement of a funding opportunity.

• Catalog of Federal Domestic Assistance (CFDA) Number(s): 66.500.

• Dates: Applications must be received by EPA on or before May 24, 2004.

II. General Information

A. Does this Action Apply to Me?

States; territories and possessions of the United States; federally recognized Tribal governments; qualified intertribal consortia; municipal, interstate or intermunicipal agencies; universities; hospitals; laboratories; nonprofit agencies; State and local government departments; public agencies and authorities; other public or nonprofit private agencies, institutions, organizations, and individuals. If you have any questions regarding the applicability of this action to a particular entity, consult the person listed under FOR FURTHER INFORMATION CONTACT.

For this solicitation, an intertribal consortium is defined as a partnership between two or more federally recognized Tribes that is authorized by the governing bodies of those Tribes to apply for and receive assistance under FIFRA. Only one proposal may be submitted by each Tribal government, intertribal consortium, university or other entity. If you have any questions regarding the applicability of this action to a particular entity, consult the person listed under FOR FURTHER INFORMATION CONTACT.

B. How Can I Get Copies of this Document and Other Related Information?

1. Docket. EPA has established an official public docket for this action under docket identification (ID) number OPP-2003-0399. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this “Federal Register” document electronically through the EPA Internet under the “Federal Register” listings at http://www.epa.gov/fedrgstr/. An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

III. Introduction

EPA's Office of Pesticide Programs (OPP) has significantly expanded its resources devoted to Tribal pesticide programs and projects. In the past, Tribal representatives expressed the need for a forum to present their pesticide issues and concerns and to discuss approaches for resolving them at the national level. Moreover, the Agency recognized the importance of the Tribes' participation in developing a policy that would strengthen their current pesticide programs and provide guidance for Tribes that do not have such programs.

In response to these concerns, an EPA cooperative agreement with Native Ecology Initiative (NEI) formed the Tribal Pesticide Program Council (TPPC) in September 1999. The NEI agreement expires in September 2004. The cooperative agreement provides for the coordination and administration of the TPPC. The TPPC was modeled after the State FIFRA Issues Research and Evaluation Group (SFIREG), which is funded through an EPA cooperative agreement with the Association of American Pesticide Control Officials (AAPCO). The TPPC informs Tribes of pesticide issues, promotes pesticide education and awareness, and assists in the establishment, development, and implementation of comprehensive Tribal pesticide programs. It serves as a Tribal counterpart to the SFIREG and includes representatives from federally recognized Tribes and Indian nations and intertribal organizations. Since its inception in early FY 2000, the TPPC has developed a reputation as a very effective Tribal environmental organization. The TPPC is governed by an 11 member elected Executive Committee, and an elected Chairperson and Vice-Chairperson.

IV. Program Description

A. Purpose and Scope

Cooperative agreements awarded under this program are intended to provide financial assistance to support a continuing project that promote and enhance Tribal pesticide program development, raise human health and environmental issues related to pesticides that are important to Tribes and their people, and address policy needs at the national level.

This program is included in the Catalog of Federal Domestic Assistance under number CFDA 66.500.

B. Goal and Objectives

The objective of this project is to research and develop an appropriate approach for the formation of the TPPC which will work to strengthen Tribal pesticide programs and serve as a Tribal counterpart to the SFIREG. The group will promote and enhance Tribal pesticide program development, raise pesticide issues important to Tribes and their peoples, and to participate in policy at the national level. The TPPC does the following:

• Assists Tribes and Indian nations in developing their own pesticide programs.

• Provides Indian Country-focused pesticide education, training, and research; (For the purposes of this solicitation, the term “Indian country“ means (1) All land within the limits of any Indian reservation under the jurisdiction of the United States Government, notwithstanding the issuance of any patent, and including rights-of-way running throughout the reservation; (2) All dependent Indian communities within the borders of the United States, whether within the original or subsequently acquired territory thereof, and whether within or without the limits of the State; and (3) All Indian allotments, the Indian titles to which have not been extinguished, including rights-of-way running through the same.)

• Offers a forum for raising a broad range of tribal pesticide-related issues and concerns.

• Facilitates communications between the Tribes, Indian Nations, Tribal and intertribal organizations, Tribal communities, EPA headquarters, regions, and other federal and State agencies on pesticides and pesticide-related issues.

• Seeks to ensure that Tribes with less experience in the pesticide management area can develop relationships with and learn from those Tribes who have more experience, and to develop Tribal mentoring or coaching relationships.

• Works in partnership with EPA to ensure that the federal law governing pesticides, FIFRA, is complied with and enforced in Indian Country in a manner that is consistent with Tribes' and Indian Nations' sovereignty and treaty rights.

• Helps to ensure that knowledgeable and experienced Tribal and Indian Nations representatives are aware of and able to participate where their knowledge and expertise are needed in pesticide-related, decision-making initiatives, committees, and meetings that may impact Indian Country.

• Coordinates and works cooperatively with the Tribal Operations Committee (TOC), Regional Tribal Operating Committees (RTOCs), the National Tribal Environmental Council (NTEC), the Intertribal Agricultural Council (IAC), the National Congress of American Indians (NCAI), and any other Tribal or Indian Nation organization or intertribal organization that is or may be involved with pesticide issues and concerns.

• Liaises with SFIREG to ensure good communications between States and Tribes on pesticide issues.

C. Eligibility

1. Applicants. To be eligible for consideration, applicants must meet all of the following criteria. Failure to meet the following criteria will result in the automatic disqualification of the proposal for funding consideration:

• Be a State; territory or possession of the United States; federally recognized Tribal government; qualified intertribal consortium; municipal, interstate or intermunicipal agency; university; hospital; laboratory; nonprofit agency; State and local government department; public agency or authority; other public or nonprofit private agency, institution, organization, or individual.

• Applicants must demonstrate the ability, experience and expertise to be able to assist the TPPC in achieving its defined purposes, as listed above.

• The applicant must demonstrate the ability to establish good communications, build partnerships and cooperative efforts, maintain good records and data, and provide relevant information to TPPC members, stakeholders, and EPA.

• Applicants must demonstrate that they have the ability, experience and expertise in comparable work areas to work cooperatively and successfully with the Office of Pesticide Programs (OPP) Liaison and under the guidance of the TPPC Chairperson and the TPPC Executive Committee, to:

a. Assist the TPPC with planning meetings, developing meeting agendas, and communicating meeting dates and agendas.

b. Make all travel arrangements for bi-annual full Tribal Pesticide Program Council meetings, TPPC Executive Committee, and Working Group meetings; arrange for meeting space and facilities, and assist in making hotel arrangements.

c. Notify Tribes, EPA headquarters, the American Indian Environmental Office, the Tribal Operations Group, the National Tribal Environmental Council, SFIREG, and other interested parties of TPPC meetings.

d. Prepare minutes for all TPPC meetings, and after approval by the Executive Committee of the TPPC, send them, with appropriate attachments, to Tribes, EPA headquarters and regions, and other interested parties.

e. Maintain up-to-date TPPC data bases, mailing lists and files.

f. Serve as a clearinghouse for Tribal pesticide codes, laws, regulations, and policies, as well as pesticide education and training materials.

g. Respond to phone inquires relating to TPPC meetings and other TPPC matters.

h. On occasion, distribute materials generated by the Agency to all Tribes upon request.

i. Help Tribes keep abreast of funding opportunities for pesticide programs, and deadlines attached to those opportunities.

j. Prepare the annual application for supplemental annual funding of the TPPC cooperative agreement several months ahead of current funds' agreement expiration date.

k. Work annually with the Executive Committee to assist in preparation of a proposed budget for the TPPC; coordinate with the TPPC elected Chairperson and Executive Committee in finalizing any proposed budget and working out the details for approval and funding; and provide financial reporting to the TPPC as required by the TPPC and the Executive Committee.

l. Review for accuracy all requests for disbursement of funds and supporting documentation; issue checks, with the signed approval of the TPPC Chairperson; see to it to ensure that reimbursement for expenses when properly presented and documented is provided within 30 days.

m. Prepare reports for EPA as required by the cooperative agreement.

n. Assist the Executive Committee of the TPPC in defining training needs and obtaining technical assistance where the Executive Committee requests such assistance.

o. Act as Project Manager for the TPPC, serving as the Administrative Contact for the TPPC with EPA, including the OPP Liaison and Project/Grants Manager.

p. Administer the appointments process for filling vacancies on any work groups.

2. Proposals.

• The proposal must address all of the High Priority Areas for Consideration.

• The proposal must meet all format and content requirements contained in this notice.

• The proposal must comply with the directions for submittal contained in this notice.

D. Authority

EPA expects to enter into this cooperative agreement under the authority provided in FIFRA section 20 which authorizes the Agency to issue grants or cooperative agreements for research, development, monitoring, public education, training, demonstrations, and studies.

Regulations governing these cooperative agreements are found at 40 CFR part 30 for institutions of higher education, colleges and universities, and non-profit organizations; and 40 CFR part 31 for States and local governments. In addition, the provisions in 40 CFR part 32, governing government-wide debarment and suspension; and the provisions in 40 CFR part 40, regarding restrictions on lobbying apply.

All costs incurred under this program must be allowable under the applicable OMB Cost Circulars: A-87 (States and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements or contracts). See 40 CFR part 40.

E. Activities to be Funded

See Unit IV.C.1.a. through IV.C.1.p. of this notice for activities funded.

F. Award and Distribution of Funds

1. Available funding. The funding for the selected award project is in the form of a cooperative agreement awarded under FIFRA section 20 authority.

The total funding available for award in FY 2004 is expected to be approximately $200,000. At the conclusion of the first 1 year period of performance, incremental funding of up to $200,000 may be made available for each year allowing the project to continue for a total of five periods of performance (approximately 5 years) and with a total of up to $1,000,000 for the 5-year period, depending on need and the Agency budget in outlying years.

Should additional funding become available for award, the Agency may award additional grants based on this solicitation and in accordance with the final selection process, without further notice of competition.

2. Evaluation process and criteria. Applicants will be screened to ensure they meet all eligibility criteria and will be disqualified if they do not meet all eligibility criteria. All proposals will be reviewed, evaluated, and ranked by a selected panel of EPA reviewers based on the following evaluation criteria and weights (Total: 100 points).

i. General background information request. Please provide the following background information about your organization, Tribe, or other type of entity:

• How many people are employed by your organization?

• Specify the experience your organization has in working with Tribes.

• Specify if your organization is currently working on Tribal related matters.

• Specify if your organization is currently working on human health and environmental issues related to pesticides.

• Specify if your organization has experience working with program development, project support and administration.

ii. Technical qualifications, overall management plan, past performance. Does the person(s) designated to lead the project have the technical expertise he or she will need to successfully complete it? Does the project leader have experience in grant and project management? Proposals should provide complete information on the education, skills, training and relevant experience of the project leader. As appropriate, please cite technical qualifications and specific examples of prior or relevant experience. To whom does the project leader report? What systems of accountability and management oversight are in place to ensure this project stays on track? Has your organization received past funding from EPA's Office of Pesticide Programs, other EPA programs, or other source? If so, please identify the funding source and activities/deliverables it supported. If previously performed work directly relates to this project, briefly describe the connection. If a directly relevant project is currently ongoing, what progress has been made? If your organization, in its proposal to support the TPPC, builds upon earlier efforts, how will you use the knowledge, data, and experience of grant outputs from previous projects to shape this work you will do? (Weight: 30 points)

iii. Justification of need for the project, soundness of technical approach. Why is this project important to your organization? Review the environmental issue(s) your organization expects to address with this proposal; how serious are these issues? What is the expected outcome of your organization carrying out and supporting the TPPC? What benefits will your proposed support to the TPPC provide to Tribes, human health, and the environment? Has your organization identified a need to coordinate or consult with other parties to ensure the success of this project? If so, who are they? How will they be affected by the outcome of the project? What will be the key outputs of this project? How will your organization quantify and measure progress? Have interim milestones for this project been established?

If so, what are they? How will you evaluate the success of this project in terms of measurable environmental results? Please describe the steps your organization will take to ensure successful completion of the project and provide a time line and description of interim and final results and deliverables. Does your budget request accurately reflect the work you propose? Please provide a clear correlation between expenses and project objectives. Will EPA funding for this proposal be supplemented with funding from other source(s)? If so, please identify them. (Weight: 35 points).

iv. Benefits, sustainability, and transferable result. What ecological or human health benefits does this proposal provide? What quality of life issues does the proposal address? Does your organization's proposed support of the TPPC have limited or broad applications to address risks related to pesticides? Will the results from this proposed support of the TPPC continue to provide benefits to the Tribes after the period of performance has expired and this funding is no longer available? How are these benefits expected to be sustained over time? Does the applicant understand/acknowledge the need for coordination between other organizations, such as Tribal agencies and outside communities, and/or federal, State or local agencies? Are any of the deliverables, experiences, products, or outcomes resulting from the proposed support of the TPPC transferable to other groups, organizations, or communities? (Weight: 35 points)

3. Selection official. The funding decision will be made from the group of top rated proposals by the Chief of the Government and International Services Branch, Field and External Affairs Division, Office of Pesticide Programs.

4. Dispute resolution process. The procedures for dispute resolution at 40 CFR 30.63 and CFR 31.70 apply.

G. Application Requirements

1. Content requirements. Proposals must be typewritten, double spaced in 12 point or larger print using 8.5 x 11 inch paper with minimum 1 inch horizontal and vertical margins. Pages must be numbered in order starting with the cover page and continuing through the appendices. One original and one electronic copy (e-mail or disk) is required. It is requested that applicants have a section in their proposal which shows how they meet the eligibility criteria and another section which shows how applicants meet the evaluation criteria.

All proposals must include:

• Completed Standard Form SF 424*, Application for Federal Assistance. Please include organization fax number and e-mail address. The application forms are available on line at http://www.epa.gov/ogd/grants/how_to_apply.htm.

• Completed Section B--Budget Categories, on page 1 of Standard Form SF 424A*, (See Unit IV.G.3.--Allowable Cost). Blank forms may be located at: http://www.epa.gov/region03/grants/appforms.htm.

• Detailed itemization of the amounts budgeted by individual Object Class Categories (See Unit IV.G.3.--Allowable Cost).

• Statement regarding whether this proposal is a continuation of a previously funded project. If so, please provide the assistance number and status of the current grant/cooperative agreement.

• Executive Summary. The Executive Summary shall be a stand alone document, not to exceed one page, containing the specifics of what is proposed and what you expect to accomplish regarding measuring or movement toward achieving project goals. This summary should identify the measurable environmental results you expect including potential human health and ecological benefits.

• Table of contents. A one page table listing the different parts of your proposal and the page number on which each part begins.

• Proposal narrative. Includes Parts I-V (Parts I through V listed below are not to exceed 10 pages).

• Part I--Project title. Self explanatory.

• Part II--Objectives. A numbered list (1, 2, etc.) of concisely written project objectives, in most cases, each objective can be stated in a single sentence.

• Part III--Justification. For each objective listed in Part II, discuss the potential outcome in terms of human health, environmental and/or pesticide risk reduction.

• Part IV--Approach and methods. Describe in detail how the program will be carried out. Describe how the system or approach will support the program goals.

• Part V--Impact assessment. Please state how you will evaluate the success of the program in terms of measurable results. How and with what measures will humans be better protected as a result of the program?

2. Appendices. These appendices must be included in the cooperative agreement proposal. Additional appendices are not permitted.

• Timetable. A timetable that includes what will be accomplished under each of the objectives during the project and when completion of each objective is anticipated.

• Major participants. This appendix should list all affiliates or other organizations, educators, trainers and others having a major role in the proposal. Provide name, organizational affiliation or occupation and a description of the role each will play in the project. A brief resume (not to exceed two pages) should be submitted for each major project manager, educator, support staff or other major participant.

3. Allowable costs. EPA grant funds may only be used for the purposes set forth in the cooperative agreement, and must be consistent with the statutory authority for the award. Cooperative agreement funds may not be used for matching funds for other Federal grants, lobbying, or intervention in Federal regulatory or adjudicatory proceedings. In addition, Federal funds may not be used to sue the Federal government or any other government entity. All costs identified in the budget must conform to applicable Federal Cost Principles contained in OMB Circular A-87; A-122; and A-21, as appropriate.

4. Federal requirements for recipients. An applicant whose proposal is selected for Federal funding must complete additional forms prior to award (see 40 CFR 30.12 and 31.10). In addition, successful applicants will be required to certify that they have not been debarred or suspended from participation in Federal assistance awards in accordance with 40 CFR part 32.

H. Application Procedures

1. Submission instructions. All proposals should be mailed to: Georgia McDuffie, Environmental Protection Agency, Government and International Services Branch, Field and External Affairs Division, Office of Pesticide Programs, Mail Code 7506C, 1200 Pennsylvania Avenue, NW., Washington, DC 20460-0001. The electronic copy should be e-mailed toMcduffie.Georgia@epa.gov. To be considered, both the paper and electronic copy must be received by the due date.

As indicated above, each application must include the original paper copy of the submission, along with one electronic copy. The electronic copy of your application package, whether submitted separately by e-mail or on a disk, should be consolidated into a single file, and be in Word Perfect WP8/9 for Windows, or Adobe pdf 4/5 format. If mailing a disk, please use a 3.5 disk that is labeled as a proposal for the Tribal Pesticide Program Council, and include your pertinent information. Please check your electronic submissions to ensure that it does not contain any computer viruses.

2. Notification. The Government and International Services Branch, Office of Pesticide Programs, will mail acknowledgments to applicants upon receipt of the proposal. Once proposals have been reviewed, evaluated, and ranked, applicants will be notified regarding the outcome of the competition. A listing of the successful proposal will be posted on the Office of Pesticide Programs' web site: www.epa.gov/pesticides/. This website may also contain additional information about this notice including information concerning deadline extensions or other modifications.

I. Recipient Report Requirements

The successful recipient will be required to submit quarterly and annual reports, and to submit annual financial reports. The specific information contained within the report will include at a minimum, a comparison of actual accomplishments to the objectives established for the period.

J. Intergovernmental Review

Applicants must comply with the Intergovernmental Review Process and/or the consultation provisions of section 204, of the Demonstration Cities and Metropolitan Development Act, if applicable, which are contained in 40 CFR part 29. All State applicants should consult with their EPA Regional office or official designated as the single point of contact in his or her State for more information on the process the State requires when applying for assistance; if the State has selected the program for review. If you do not know who your Single Point of Contact is, please call the EPA Headquarters Grant Policy Information and Training Branch at (202) 564-5325 or refer to the State Single Point of Contact web site at http://www.whitehouse.gov/omb/grants/spoc.html. Federally-recognized Tribal governments are not required to comply with this procedure.

V. Submission to Congress and the Comptroller General

Grant solicitations such as this are considered rules for the purpose for the Congressional Review Act (CRA). The CRA, 4 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule“ as defined by 5 U.S.C. 804(2).

List of Subjects

Environmental protection, Grants, Pesticides, Training.

Dated: March 31, 2004.
Susan B. Hazen,
Assistant Administrator, Office of Prevention, Pesticides and Toxic Substances.

[FR Doc. 04-8105 Filed 4-8-04; 8:45 am]

BILLING CODE 6560-50-S